ENVIRONMENTAL PROTECTION AGENCY

[OPPTS-51956; FRL-6754-1]

Certain New Chemicals; Correction

AGENCY: Environmental Protection Agency (EPA).

ACTION: Notice; correction.

SUMMARY: EPA is issuing this notice to correct the Test Marketing Exemption T-00-0006.

FOR FURTHER INFORMATION CONTACT: Barbara Cunningham, Director, Office of Program Management and Evaluation, Office of Pollution Prevention and Toxics (7401), Environmental Protection Agency, 1200 Pennsylvania Ave., NW., Washington, DC 20460; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. How Can I Get Additional Information, Including copies of this Document and Other Related Documents?

1. Electronically. You may obtain copies of this document and certain other available documents from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

2. In person. The Agency has established an official record for this action under docket control number OPPTS-51956. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA NonConfidential Information Center, North East Mall Rm. B-607, Waterside Mall, 401 M St., SW., Washington, DC. The center is open from noon to 4 p.m., Monday through Friday, excluding legal holidays. The telephone number of the center is (202) 260-7099.

II. What Does This Correction Do?

EPA issued a notice in the Federal Register of October 17, 2000, (65 FR 61326) (FRL-6749-3) in which incorrectly provided information on Test Marketing Exemption T-00-0006, as an ingredient in a new human antipersoirant formulation. This document corrects the TME as follows:

In FR Doc. 00-26640, at page 61328, the entry to Table II. in the 5th column, the word “antipersoiant” is corrected to read “antiperspirant”.

List of Subjects

Environmental Protection, Chemicals, Premanufacturer notices.

Dated: November 9, 2000.
Deborah A. Williams,
Acting Director, Information Management Division, Office of Pollution Prevention and Toxics.

[FR Doc. 00-29649 Filed 11-17-00; 8:45 am]

BILLING CODE 6560-50-S